DEPARTMENT OF TRANSPORTATION

Federal Aviation Administration

14 CFR Part 97

[Docket No. 30631; Amdt. No 3290]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 16, 2008. The compliance date for each SIAP, associated Takeoff Minimums, and ODP is specified in the amendatory provisions.

The incorporation by reference of certain publications listed in the regulations is approved by the Director of the Federal Register as of October 16, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration(NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators' description of each SIAP and its associated Takeoff Minimums or ODP for an identified airport is listed on FAA form documents which are incorporated by reference in this amendment under 5 U.S.C.552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 3, 2008.
James J. Ballough,
Director, Flight Standards Service.

Adoption of the Amendment

Accordingly, pursuant to the authority delegated to me,Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 Nov. 2008

Clinton, AR, Holley Mountain Airpark, Takeoff Minimums and Obstacle DP, Orig

Fayetteville, AR, Drake Field, LDA/DME RWY 34, Amdt 3

Fayetteville, AR, Drake Field, RNAV (GPS) RWY 16, Orig

Fayetteville, AR, Drake Field, RNAV (GPS) RWY 34, Orig

Fayetteville, AR, Drake Field, VOR-A, Amdt 25

Sacramento, CA, Sacramento Executive, ILS OR LOC RWY 2, Amdt 23

Sacramento, CA, Sacramento Executive, RNAV (GPS) RWY 2, Orig

Sacramento, CA, Sacramento Executive, Takeoff Minimums and Obstacle DP, Orig

Sacramento, CA, Sacramento Executive, VOR RWY 2, Amdt 10

San Diego/El Cajon, CA, Gillespie Field, GPS RWY 17, Orig-A, CANCELLED

San Diego/El Cajon, CA, Gillespie Field, RNAV (GPS) RWY 17, Orig

San Diego, CA, San Diego Intl, LOC RWY 27, Amdt 3

San Diego, CA, San Diego Intl, RNAV (GPS) RWY 27, Amdt 1

San Jose, CA, Norman Y. Mineta/San Jose Intl, RNAV (RNP) Z RWY 12R, Orig-A

Wray, CO, Wray Muni, RNAV (GPS) RWY 17, Amdt 1

Wray, CO, Wray Muni, RNAV (GPS) RWY 35, Amdt 1

Orlando, FL, Orlando Sanford Intl, ILS OR LOC RWY 9L, Amdt 3

Orlando, FL, Orlando Sanford Intl, ILS OR LOC RWY 27R, Amdt 1

Alma, GA, Bacon County, RNAV (GPS) RWY 15, Amdt 1

Covington, GA, Covington Muni, GPS RWY 28, Orig-B, CANCELLED

Covington, GA, Covington Muni, NDB RWY 28, Amdt 2

Covington, GA, Covington Muni, RNAV (GPS) RWY 10, Orig

Covington, GA, Covington Muni, RNAV (GPS) RWY 28, Orig

Covington, GA, Covington Muni, Takeoff Minimums and Obstacle DP, Amdt 1

Covington, GA, Covington Muni, VOR/DME RWY 10, Amdt 4

Elberton, GA, Elbert Co-Patz Field, GPS RWY 28, Orig, CANCELLED

Elberton, GA, Elbert Co-Patz Field, RNAV (GPS) RWY 10, Orig

Elberton, GA, Elbert Co-Patz Field, RNAV (GPS) RWY 28, Orig

Elberton, GA, Elbert Co-Patz Field, Takeoff Minimums and Obstacle DP, Orig

Elberton, GA, Elbert Co-Patz Field, VOR/DME RWY 10, Amdt 3

Gooding, ID, Gooding Muni, NDB RWY 25, Amdt 1

Champaign/Urbana, IL, University of Illinois-Willard, RNAV (GPS) RWY 32R, Orig

Chicago, IL, Chicago-O'Hare Intl, ILS OR LOC RWY 9L, ILS RWY 9L (CAT II), ILS RWY 9L (CAT III), Orig

Chicago, IL, Chicago-O'Hare Intl, ILS OR LOC RWY 9R, Amdt 9

Chicago, IL, Chicago-O'Hare Intl, ILS OR LOC RWY 27L, ILS RWY 27L (CAT II),ILS RWY 27L (CAT III), Amdt 28

Chicago, IL, Chicago-O'Hare Intl, ILS OR LOC RWY 27R, ILS RWY 27R (CAT II),ILS RWY 27R (CAT III), Orig

Chicago, IL, Chicago-O'Hare Intl, RNAV (GPS) RWY 9L, Orig

Chicago, IL, Chicago-O'Hare Intl, RNAV (GPS) RWY 9R, Amdt 2

Chicago, IL, Chicago-O'Hare Intl, RNAV (GPS) RWY 27L, Amdt 2

Chicago, IL, Chicago-O'Hare Intl, RNAV (GPS) RWY 27R, Orig

Chicago, IL, Chicago-O'Hare Intl, Takeoff Minimums and Obstacle DP, Amdt 16

Morris, IL, Morris Muni-James R. Washburn Field, RNAV (GPS) RWY 36, Amdt 1

Morris, IL, Morris Muni-James R. Washburn Field, Takeoff Minimums and Obstacle DP, Orig

Quincy, IL, Quincy Rgnl-Baldwin Field, ILS OR LOC RWY 4, Amdt 17B

Indianapolis, IN, Eagle Creek Airpark, NDB RWY 21, Amdt 4

Indianapolis, IN, Eagle Creek Airpark, Takeoff Minimums and Obstacle DP, Amdt 1

Indianapolis, IN, Eagle Creek Airpark, VOR-A, Amdt 7

Indianapolis, IN, Mount Comfort, RNAV (GPS) RWY 25, Orig

Hopkinsville, KY, Hopkinsville-Christian County, LOC RWY 26, Amdt 4

Hopkinsville, KY, Hopkinsville-Christian County, NDB RWY 26, Amdt 7

Hopkinsville, KY, Hopkinsville-Christian County, RNAV (GPS) RWY 8, Orig

Hopkinsville, KY, Hopkinsville-Christian County, RNAV (GPS) RWY 26, Orig

New Roads, LA, False River Rgnl, LOC RWY 36, Amdt 1

New Roads, LA, False River Rgnl, NDB RWY 36, Amdt 2

Alpena, MI, Alpena County Rgnl, RNAV (GPS) RWY 1, Orig

Detroit, MI, Willow Run, RNAV (GPS) RWY 23L, Amdt 1

Motley, MN, Morey's, Takeoff Minimums and Obstacle DP, Orig, CANCELLED

St Louis, MO, Lambert-St Louis Intl, ILS OR LOC RWY 12R, Amdt 21D

St Louis, MO, Lambert-St Louis Intl, ILS OR LOC RWY 30L, Amdt 12

Charlotte, NC, Charlotte/Douglas Intl, ILS OR LOC RWY 18C, Amdt 9A

Charlotte, NC, Charlotte/Douglas Intl, ILS OR LOC RWY 18L, Amdt 6A

Charlotte, NC, Charlotte/Douglas Intl, ILS OR LOC RWY 36C, ILS RWY 36C (CAT II), ILS RWY 36C (CAT III), Amdt 15C

Charlotte, NC, Charlotte/Douglas Intl, ILS OR LOC RWY 36R, ILS RWY 36R (CAT II), ILS RWY 36R (CAT III), Amdt 10A

Charlotte, NC, Charlotte/Douglas Intl, RNAV (GPS) RWY 18C, Amdt 2A

Charlotte, NC, Charlotte/Douglas Intl, RNAV (GPS) RWY 36C, Amdt 2A

Charlotte, NC, Charlotte/Douglas Intl, Takeoff Minimums and Obstacle DP, Amdt 4

Manchester, NH, Manchester, Takeoff Minimums and Obstacle DP, Amdt 9

Wilmington, OH, Clinton Field, RNAV (GPS) RWY 21, Amdt 1

Chester, SC, Chester Catawba Regional, GPS RWY 17, Orig, CANCELLED

Chester, SC, Chester Catawba Regional, GPS RWY 35, Orig, CANCELLED

Chester, SC, Chester Catawba Regional, RNAV (GPS) RWY 17, Orig

Chester, SC, Chester Catawba Regional, RNAV (GPS) RWY 35, Orig

Newberry, SC, Newberry County, NDB RWY 22, Amdt 6

Newberry, SC, Newberry County, Takeoff Minimums and Obstacle DP, Amdt 1

Knoxville, TN, McGhee-Tyson, NDB RWY 5R, Amdt 5A, CANCELLED

Knoxville, TN, McGhee-Tyson, RNAV (GPS) RWY 5R, Amdt 1

Knoxville, TN, McGhee-Tyson, RNAV (GPS) RWY 23L, Amdt 1

Sevierville, TN, Gatlinburg-Pigeon Forge, RNAV (GPS) RWY 10, Orig

Sevierville, TN, Gatlinburg-Pigeon Forge, VOR/DME RWY 10, Amdt 6

Carthage, TX, Panola County-Sharpe Field, NDB RWY 35, Amdt 2

Carthage, TX, Panola County-Sharpe Field, RNAV (GPS) RWY 17, Orig

Carthage, TX, Panola County-Sharpe Field, RNAV (GPS) RWY 35, Orig

Carthage, TX, Panola County-Sharpe Field, Takeoff and Minimums and Obstacle DP, Orig

Mason, TX, Mason County, Takeoff Minimums and Obstacle DP, Orig

Pleasanton, TX, Pleasanton Muni, GPS RWY 34, Orig, CANCELLED

Pleasanton, TX, Pleasanton Muni, NDB-A, Amdt 5B, CANCELLED

Pleasanton, TX, Pleasanton Muni, RNAV (GPS) RWY 34, Orig

Pleasanton, TX, Pleasanton Muni, Takeoff Minimums and Obstacle DP, Amdt 1

Victoria, TX, Victoria Rgnl, Takeoff and Minimums and Obstacle DP, Orig

Price, UT, Carbon County Rgnl/Buck Davis Field, ILS OR LOC/DME RWY 36, Orig

Seattle, WA, Seattle-Tacoma Intl, ILS OR LOC RWY 16C, ILS RWY 16C (CAT II),ILS RWY 16C (CAT III), Amdt 13

Seattle, WA, Seattle-Tacoma Intl, ILS OR LOC RWY 16L, ILS RWY 16L (CAT II),ILS RWY 16L (CAT III), Amdt 4

Seattle, WA, Seattle-Tacoma Intl, ILS OR LOC RWY 16R, ILS RWY 16R (CAT II),ILS RWY 16R (CAT III), Orig

Seattle, WA, Seattle-Tacoma Intl, ILS OR LOC RWY 34C, ILS RWY 34C (CAT II), Amdt 2

Seattle, WA, Seattle-Tacoma Intl, ILS OR LOC RWY 34L, ILS RWY 34L (CAT II), Orig

Seattle, WA, Seattle-Tacoma Intl, ILS OR LOC RWY 34R, ILS RWY 34R (CAT II), Amdt 1

Seattle, WA, Seattle-Tacoma Intl, RNAV (GPS) RWY 16C, Amdt 1

Seattle, WA, Seattle-Tacoma Intl, RNAV (GPS) RWY 16L, Amdt 2

Seattle, WA, Seattle-Tacoma Intl, RNAV (GPS) RWY 16R, Orig

Seattle, WA, Seattle-Tacoma Intl, RNAV (GPS) RWY 34C, Amdt 1

Seattle, WA, Seattle-Tacoma Intl, RNAV (GPS) RWY 34L, Orig

Seattle, WA, Seattle-Tacoma Intl, RNAV (GPS) RWY 34R, Amdt 1

Seattle, WA, Seattle-Tacoma Intl, Takeoff Minimums and Obstacle DP, Amdt 4

Seattle, WA, Seattle-Tacoma Intl, VOR/DME RWY 16L/C, Amdt 14

Seattle, WA, Seattle-Tacoma Intl, VOR/DME RWY 34C, Amdt 1

La Crosse, WI, La Crosse Muni, ILS OR LOC RWY 18, Amdt 19

La Crosse, WI, La Crosse Muni, NDB RWY 18, Amdt 19

La Crosse, WI, La Crosse Muni, VOR RWY 13, Amdt 30

La Crosse, WI, La Crosse Muni, VOR RWY 36, Amdt 31

Effective 18 Dec. 2008

Somerville, NJ, Somerset, Takeoff Minimums and Obstacle DP, Amdt 3

[FR Doc. E8-24110 Filed 10-15-08; 8:45 am]

BILLING CODE 4910-13-P